DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Thursday, January 17, 2002. The meeting begins at 1:00 p.m. The session includes the following items: (1) Welcome & Introductions, & ITS America Antitrust Policy & Conflict of Interest Statements; (2) Approval of Minutes from the September 21, 2001 Board Meeting; (3) December 17, 2001 Executive Committee Meeting Report; (4) Federal Report; (5) President's Report; (6) Finance Committee Report and Approval of 2002 Budget; (7) Nominating Committee Report; (8) Bylaws Task Force Report; (9) 511 Guidelines Resolution Review and Approval; (10) Coordinating Council Reorganization; and (11) Adjournment.

ITS America provides a forum for national discussion and recommendations on ITS activities including programs, research needs, strategic planning, standards, international liaison, and priorities.

The charter for the utilization of ITS America establishes this organization as an advisory committee under the Federal Advisory Committee Act (FACA) 5 USC app. 2, when it provides advice or recommendations to DOT officials on ITS policies and programs. (56 FR 9400, March 6, 1991).

DATES: The Board of Directors of ITS AMERICA will meet on Thursday, January 17, 2002 at 1 p.m.

ADDRESSES: Marriott Wardman Park Hotel, 2660 Woodley Road, NW, Washington, DC 20008, (202) 328-2000; Fax (202) 234-0015.

FOR FURTHER INFORMATION CONTACT: Materials associated with this meeting may be examined at the offices of ITS AMERICA, 400 Virginia Avenue SW, Suite 800, Washington, DC 20024. Persons needing further information or who request to speak at this meeting should contact Debbie M. Busch at ITS AMERICA by telephone at (202) 484-2904 or by Fax at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)
Issued on: December 17, 2001.
Jeffrey Paniati,
Program Manager, ITS Joint Program Office, US Department of Transportation.

[FR Doc. 01-31516 Filed 12-20-01; 8:45 am]

BILLING CODE 4910-22-P